ENVIRONMENTAL PROTECTION AGENCY

[OPA-2004-0010, FRL-7847-5]

Agency Information Collection Activities: Proposed Collection; Comment Request; Renewal of Information Collection Request (ICR) for the Oil Pollution Prevention Regulation for Certain Facilities to Prepare and Maintain an Oil Spill Prevention, Control and Countermeasure (SPCC) Plan, EPA ICR #0328.11, OMB Control Number 2050-0021

AGENCY: Environmental Protection Agency.

ACTION: Notice.

SUMMARY: In compliance with the Paperwork Reduction Act (44 U.S.C. 3501 et seq.), this document announces that EPA is planning to submit a continuing Information Collection Request (ICR) to the Office of Management and Budget (OMB). This is a request to renew an existing approved collection. This ICR is scheduled to expire on August 31, 2005. Before submitting the ICR to OMB for review and approval, EPA is soliciting comments on specific aspects of the proposed information collection as described below.

DATES: Comments must be submitted on or before February 11, 2005.

ADDRESSES: Submit your comments, referencing docket ID number OPA-2004-0010, to EPA online using EDOCKET (our preferred method), by e-mail to superfund.docket@epa.gov, or by mail to: EPA Docket Center, Environmental Protection Agency, 1301 Constitution Ave., NW., EPA West, Suite B-102, Washington, DC 20460.

FOR FURTHER INFORMATION CONTACT: Hugo Paul Fleischman, EPA Oil Program, Mail Code 5203G, Environmental Protection Agency, 1200 Pennsylvania Ave., NW., Washington, DC 20460; telephone number: 703-603-8769; fax number: 703-603-9116; email address: fleischman.hugo@epa.gov.

SUPPLEMENTARY INFORMATION: EPA has established a public docket for this ICR under Docket ID number OPA-2004-0010, which is available for public viewing at the Superfund Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Superfund Docket is (202) 566-0276. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: The industries that are likely to be covered by the SPCC regulation fall into many North American Industrial Classification System (NAICS) categories, including those associated with petroleum and non-petroleum oil production, processing (refining), distribution, and consumption. The specific private industry sectors subject to this action include, but are not limited to: (1) Crop and Animal Production (NAICS 111-112): (2) Crude Petroleum and Natural Gas Extraction (NAICS 211111); (3) Coal Mining, Non-Metallic Mineral Mining and Quarrying (NAICS 2121/2123/213114/213116); (4) Electric Power Generation, Transmission, and Distribution (NAICS 2211); (5) Heavy Construction (NAICS 234); (6) Petroleum and Coal Products Manufacturing (NAICS 324); (7) Other Manufacturing (NAICS 31-33); (8) Petroleum Bulk Stations and Terminals (NAICS 42271); (9) Gasoline Stations/Automotive Rental and Leasing (NAICS 4471/5321); (10) Heating Oil Dealers (NAICS 454311); (11) Transportation (including Pipelines), Warehousing, and Marinas (NAICS 482-486/488112-48819/ 4883/48849/492-493/71393); (12) Elementary and Secondary Schools, Colleges (NAICS 6111-6113); (13) Hospitals/Nursing and Residential Care Facilities (NAICS 622-623).

Title: Renewal of Information Collection Request (ICR) for the Oil Pollution Prevention regulation (40 CFR part 112) for certain facilities to prepare and maintain an Oil Spill Prevention, Control, and Countermeasure (SPCC) Plan

Abstract: The Oil Pollution Prevention regulation, found at 40 CFR part 112, outlines requirements for both prevention of and response to oil spills. The prevention aspect of this regulation is also known as the SPCC regulation. It was originally promulgated on December 11, 1973, at 38 FR 34164, under the authority of section 311(j)(1)(C) of the CWA. The regulation established spill prevention procedures, methods, and equipment requirements for non-transportation-related onshore and offshore facilities with aboveground oil storage capacity greater than 1,320 gallons (or greater than 660 gallons in a single tank), or buried underground oil storage capacity greater than 42,000 gallons. Regulated facilities are also limited to those that, because of their location, could reasonably be expected to discharge oil into the navigable waters of the United States or adjoining shorelines.

On July 17, 2002, at 67 FR 47042, EPA published final amendments to the SPCC rule. The final rule included new subparts outlining the requirements for different classes of oil; revised the applicability of the regulation; amended the requirements for completing SPCC Plans; and made other modifications. The final rule also contained a number of provisions designed to decrease regulatory burden on facility owners and operators subject to the rule, while preserving environmental protection. The rule was effective August 16, 2002. The rule included compliance dates in § 112.3(a) and (b); however, the original compliance dates were extended for eighteen months on April 7, 2003 (68 FR 18890). On August 11, 2004, EPA extended by an additional eighteen months the compliance dates in § 112.3(a) and (b), and amended the compliance deadline in § 112.3(c) (69 FR 48794).

The Oil Pollution Prevention regulation requires that an SPCC Plan be prepared in accordance with good engineering practices and be approved by a person with the authority to commit the resources necessary to implement the SPCC Plan. SPCC Plans address the following three areas: (1) Operating procedures that prevent oil spills; (2) Control measures installed to prevent a spill from reaching navigable waters; and (3) Countermeasures to contain, clean up, and mitigate the effects of an oil discharge that could reach navigable waters. Each SPCC Plan, while unique to the facility it covers, must include certain standard elements to ensure compliance with the regulations.

The primary data collection activities required by the Oil Pollution Prevention regulation are the preparation and maintenance of the SPCC Plan along with preparing records of inspections and tests. In preparing a Plan, the owner or operator of a new facility must prepare and implement an SPCC Plan in accordance with the guidelines set forth in 40 CFR part 112 before beginning facility operations. Section 112.3 requires the owner or operator to maintain a copy of the SPCC Plan at the facility, if the facility is normally attended for at least four hours per day or, if not, at the nearest field office. In the event of certain discharges of oil into navigable waters, a facility owner or operator must submit information described in § 112.4(a) to the Regional Administrator within 60 days. Additionally, the facility owner or operator must amend his Plan in accordance with § 112.7 whenever there is a change in the facility's design, construction, operation, and maintenance that materially affects the facility's potential to discharge oil into navigable waters.

EPA does not collect SPCC Plans or related records from facilities on a routine basis. Preparation, implementation, and maintenance of the SPCC Plan by the facility helps prevent oil discharges and mitigate the environmental damage caused by such discharges. Therefore, the primary user of the data is the facility itself. For example:

• Accumulating the necessary data requires that the facility staff analyze the strengths and weaknesses of the facility for preventing oil discharges, facilitating safety awareness, and promoting appropriate modifications to facility design and operations;

• Having the required information in a single document promotes efficient response in the event of a discharge;

• Implementing the Plan according to the specifications of 40 CFR part 112 requires meeting certain design and operational standards that reduce the likelihood of an oil discharge;

• Keeping inspection records promotes important maintenance, facilitates leak detection, and demonstrates compliance with the SPCC requirements; and

• Reviewing the Plan periodically ensures the implementation of more effective spill prevention control technology.

Although the facility is the primary user of the data, EPA uses the data in certain situations. EPA's primary use of the data contained in an SPCC Plan is to ensure that a facility is in full compliance with all elements of the SPCC regulation, including design and operation specifications and inspection requirements. EPA reviews SPCC Plans as part of EPA's inspection program and when information is submitted because of an oil discharge. A Regional Administrator may require a facility owner or operator to amend the SPCC Plan if he finds that the facility has not met the requirements of the regulation or that Plan amendment is necessary to prevent and contain discharges of oil. If a facility does not amend its SPCC Plan, it may face civil penalties under the Clean Water Act.

State and local governments are also users of the data. The information provided in SPCC Plans (e.g., facility configuration, capabilities, and potential risks) is not necessarily available elsewhere and can greatly assist local emergency preparedness planning efforts. The Plan should be compatible and coordinated with local emergency plans, including those developed under Title III of the Superfund Amendments and Reauthorization Act of 1986 (Pub. L. 99-499). Coordination with state governments is facilitated by the provision in § 112.4(c) requiring that, after certain discharges, information on the discharge be sent to the relevant state agencies. The flexibility with respect to formatting proposed in this rule promotes greater coordination with State planning efforts because the use of plans prepared pursuant to state regulations is encouraged.

EPA is currently involved in an effort to estimate the universe of facilities regulated by the SPCC rule. The purpose of this effort is to include the full range of industries and number of affected facilities impacted by this rule. Given that the information used in this ICR is based on analysis and data collected between 1990 and 1996, we believe more current data will more accurately reflect today's situation and give EPA and the universe of regulated facilities a truer picture of the impact of the regulation.

None of the information to be gathered for this collection is believed to be confidential. An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) evaluate the accuracy of the Agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: An estimated 427,211 existing facilities and 4,372 new facilities are subject to the SPCC regulations in the first year of this ICR period. The breakdown by facility size is estimated to be 355,550 small facilities, 64,283 medium facilities, and 11,750 large facilities subject to the information collection activities. A 1 percent annual growth rate is assumed to continue for the duration of this ICR.

The total hour burden to the entire regulated community over the three-year period covered by the renewal ICR is approximately 5,196,061 hours, or 1,732,020 hours annually. The net annual public reporting and recordkeeping burden for this collection of information, for newly regulated facilities is estimated to range from 35.1 to 65.2 hours per facility, with an average burden of approximately 38.0 hours, including time for reviewing instructions and gathering the data needed. The net annual public reporting and recordkeeping burden for facilities already regulated by the Oil Pollution Prevention regulation is estimated to range from 3.5 to 7.35 hours. These average annual burden estimates take into account the varied frequencies of response for individual facilities according to characteristics specific to those facilities, including frequency of oil discharges and facility modifications.

For the typical existing small, medium, and large facility, the estimated total annual baseline costs for all information collection activities required by the SPCC regulation are $200, $199, and $345 per facility, respectively. For typical new small, medium, and large facility, the total annual baseline costs for all information collection activities required by the Oil Pollution Prevention regulation are estimated to be $2,695, $2,744, and $3,354 per facility, respectively. Estimated annual costs for new facilities are higher than for existing facilities because of the greater expense associated with initially preparing the Plan. Starting in the third year of this ICR, the net annualized capital and start-up costs for all facilities average $0.3 million, and net annualized labor and O&M costs are $74.5 million and $26.3 million, respectively.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: November 29, 2004.
Dana S. Tulis,
Deputy Director, Office of Emergency Management.

[FR Doc. 04-27262 Filed 12-10-04; 8:45 am]

BILLING CODE 6560-50-P